DEPARTMENT OF THE INTERIOR

National Park Service

Notice of Inventory Completion: Rochester Museum & Science Center, Rochester, NY

AGENCY: National Park Service, Interior.

ACTION: Notice.

Notice is here given in accordance with the Native American Graves Protection and Repatriation Act (NAGPRA), 25 U.S.C. 3003, of the completion of an inventory of human remains in the possession of the Rochester Museum & Science Center, Rochester, NY. The human remains were removed from Walworth County, SD.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Rochester Museum & Science Center professional staff in consultation with representatives of the Three Affiliated Tribes of the Fort Berthold Reservation, North Dakota.

In the 1920s, human remains representing a minimum of one individual were removed from the Mobridge site (39WW1), Walworth County, SD, by W.H. Over. Mr. Over sold the human remains to the museum in 1927. No known individual was identified. No associated funerary objects are present.

Osteological examination of the human remains indicates that they are of likely Native American ancestry. In Mobridge Site Cemeteries: Controversy Concerning the Location of the Over and Stirling Burials, Douglas W. Owsley identified a number of human remains from the Mobridge site as Arikara based on morphological traits (1981). Diagnostic architecture and artifacts found at the Mobridge site, including circular, semi-subterranean structures and Native-made glass pendants, indicate that the human remains were probably buried by the Arikara during the post-contact Coalescent Traditional period (A.D. 1675-1780). In 1870, the Arikara, Hidatsa, and Mandan tribes were moved to the Fort Berthold Indian Reservation in North Dakota. Descendants of the Arikara, Hidatsa, and Mandan are members of the Three Affiliated Tribes of the Fort Berthold Reservation, North Dakota.

Officials of the Rochester Museum & Science Center have determined that, pursuant to 25 U.S.C. 3001 (9-10), the human remains described above represent the physical remains of one individual of Native American ancestry. Officials of the Rochester Museum & Science Center also have determined that, pursuant to 25 U.S.C. 3001 (2), there is a relationship of shared group identity that can be reasonably traced between the Native American human remains and the Three Affiliated Tribes of the Fort Berthold Reservation, North Dakota.

Representatives of any other Indian tribe that believes itself to be culturally affiliated with the human remains should contact Gian Carlo Cervone, Rochester Museum & Science Center, 657 East Avenue, Rochester, NY 14607-2177, telephone (585) 271-4552, ext. 310, before July 17, 2008. Repatriation of the human remains to the Three Affiliated Tribes of the Fort Berthold Reservation, North Dakota may proceed after that date if no additional claimants come forward.

The Rochester Museum & Science Center is responsible for notifying the Three Affiliated Tribes of the Fort Berthold Reservation, North Dakota that this notice has been published.

Dated: May 12, 2008.
Sherry Hutt,
Manager, National NAGPRA Program.

[FR Doc. E8-13594 Filed 6-16-08; 8:45 am]

BILLING CODE 4312-50-S